DEPARTMENT OF HOMELAND SECURITY

Federal Emergency Management Agency

[Docket ID FEMA-2017-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: December 13, 2017.
Roy E. Wright,
Deputy Associate Administrator for Insurance and Mitigation, Department of Homeland Security, Federal Emergency Management Agency.

State and county | Location and case No. | Chief executive officer of community | Community map repository | Date of modification | Community No.
Alabama:
Calhoun (FEMA Docket No.: B-1758) | City of Anniston (17-04-2695P) | The Honorable Jack Draper, Mayor, City of Anniston, P.O. Box 2168, Anniston, AL 36202 | City Hall, 1128 Gurnee Avenue, Anniston, AL 36202 | Oct. 18, 2017 | 010020
Tuscaloosa (FEMA Docket No.: B-1758) | City of Northport (16-04-8221P) | The Honorable Donna Aaron, Mayor, City of Northport, 3500 McFarland Boulevard, Northport, AL 35476 | City Hall, 3500 McFarland Boulevard, Northport, AL 35476 | Oct. 24, 2017 | 010202
Tuscaloosa (FEMA Docket No.: B-1758) | City of Tuscaloosa (16-04-7839P) | The Honorable Walter Maddox, Mayor, City of Tuscaloosa, 2201 University Boulevard, Tuscaloosa, AL 35401 | Engineering Department, 2201 University Boulevard, Tuscaloosa, AL 35401 | Nov. 20, 2017 | 010203
Tuscaloosa (FEMA Docket No.: B-1758) | City of Tuscaloosa (16-04-7840P) | The Honorable Walter Maddox, Mayor, City of Tuscaloosa, 2201 University Boulevard, Tuscaloosa, AL 35401 | Engineering Department, 2201 University Boulevard, Tuscaloosa, AL 35401 | Nov. 20, 2017 | 010203
Tuscaloosa (FEMA Docket No.: B-1758) | City of Tuscaloosa (16-04-8217P) | The Honorable Walter Maddox, Mayor, City of Tuscaloosa, 2201 University Boulevard, Tuscaloosa, AL 35401 | Engineering Department, 2201 University Boulevard, Tuscaloosa, AL 35401 | Oct. 24, 2017 | 010203
Tuscaloosa (FEMA Docket No.: B-1758) | City of Tuscaloosa (16-04-8221P) | The Honorable Walter Maddox, Mayor, City of Tuscaloosa, 2201 University Boulevard, Tuscaloosa, AL 35401 | Engineering Department, 2201 University Boulevard, Tuscaloosa, AL 35401 | Oct. 24, 2017 | 010203
Tuscaloosa (FEMA Docket No.: B-1758) | Unincorporated areas of Tuscaloosa County (16-04-7839P) | The Honorable W. Hardy McCollum, Chairman, Tuscaloosa County Board of Commissioners, 714 Greensboro Avenue, Tuscaloosa, AL 35401 | Tuscaloosa County Public Works Department, 2810 35th Street, Tuscaloosa, AL 35401 | Nov. 20, 2017 | 010201
Tuscaloosa (FEMA Docket No.: B-1758) | Unincorporated areas of Tuscaloosa County (16-04-7840P) | The Honorable W. Hardy McCollum, Chairman, Tuscaloosa County Board of Commissioners, 714 Greensboro Avenue, Tuscaloosa, AL 35401 | Tuscaloosa County Public Works Department, 2810 35th Street, Tuscaloosa, AL 35401 | Nov. 20, 2017 | 010201
Tuscaloosa (FEMA Docket No.: B-1758) | Unincorporated areas of Tuscaloosa County (16-04-8217P) | The Honorable W. Hardy McCollum, Chairman, Tuscaloosa County Board of Commissioners, 714 Greensboro Avenue, Tuscaloosa, AL 35401 | Tuscaloosa County Public Works Department, 2810 35th Street, Tuscaloosa, AL 35401 | Oct. 24, 2017 | 010201
Tuscaloosa (FEMA Docket No.: B-1758) | Unincorporated areas of Tuscaloosa County (16-04-8221P) | The Honorable W. Hardy McCollum, Chairman, Tuscaloosa County Board of Commissioners, 714 Greensboro Avenue, Tuscaloosa, AL 35401 | Tuscaloosa County Public Works Department, 2810 35th Street, Tuscaloosa, AL 35401 | Oct. 24, 2017 | 010201
Colorado:
Boulder (FEMA Docket No.: B-1748) | City of Louisville (17-08-0455P) | The Honorable Bob Muckle, Mayor, City of Louisville, 749 Main Street, Louisville, CO 80027 | City Hall, 749 Main Street, Louisville, CO 80027 | Nov. 16, 2017 | 085076
Boulder (FEMA Docket No.: B-1748) | Town of Superior (17-08-0455P) | The Honorable Clint Folsom, Mayor, Town of Superior, 124 East Coal Creek Drive, Superior, CO 80027 | Town Hall, 124 East Coal Creek Drive, Superior, CO 80027 | Nov. 16, 2017 | 085203
Boulder (FEMA Docket No.: B-1748) | Unincorporated areas of Boulder County (17-08-0455P) | The Honorable Deb Gardner, Chair, Boulder County Board of Commissioners, P.O. Box 471, Boulder, CO 80306 | Boulder County Transportation Department, 2525 13th Street, Suite 203, Boulder, CO 80304 | Nov. 16, 2017 | 080023
Eagle (FEMA Docket No.: B-1740) | Town of Eagle (17-08-0450P) | Mr. John Schneiger, Manager, Town of Eagle, P.O. Box 609, Eagle, CO 81631 | Town Hall, 200 Broadway Street, Eagle, CO 81631 | Nov. 3, 2017 | 080238
Eagle (FEMA Docket No.: B-1740) | Unincorporated areas of Eagle County (17-08-0450P) | The Honorable Jillian H. Ryan, Chair, Eagle County Board of Commissioners, P.O. Box 850, Eagle, CO 81631 | Eagle County Engineering Department, 500 Broadway Street, Eagle, CO 81631 | Nov. 3, 2017 | 080238
Jefferson (FEMA Docket No.: B-1740) | Unincorporated areas of Jefferson County (17-08-0687P) | The Honorable Libby Szabo, Chair, Jefferson County Board of Commissioners, 100 Jefferson County Parkway, Golden, CO 80419 | Jefferson County Planning and Zoning Department, 100 Jefferson County Parkway, Golden, CO 80419 | Nov. 3, 2017 | 080087
Larimer (FEMA Docket No.: B-1748) | City of Fort Collins (17-08-0075P) | The Honorable Wade Troxell, Mayor, City of Fort Collins, P.O. Box 580, Fort Collins, CO 80522 | Utilities Department, 700 Wood Street, Fort Collins, CO 80521 | Nov. 24, 2017 | 080102
Larimer (FEMA Docket No.: B-1748) | City of Loveland (16-08-1159P) | The Honorable Cecil Gutierrez, Mayor, City of Loveland, 500 East 3rd Street, Suite 330, Loveland, CO 80537 | Public Works Department, 2525 West 1st Street, Loveland, CO 80537 | Nov. 16, 2017 | 080103
Larimer (FEMA Docket No.: B-1748) | Town of Johnstown (16-08-1159P) | The Honorable Scott James, Mayor, Town of Johnstown, 450 South Parish Avenue, Johnstown, CO 80534 | Town Hall, 450 South Parish Avenue, Johnstown, CO 80534 | Nov. 16, 2017 | 080250
Larimer (FEMA Docket No.: B-1748) | Unincorporated areas of Larimer County (16-08-1159P) | The Honorable Lew Gaiter III, Chairman, Larimer County Board of Commissioners, P.O. Box 1190, Fort Collins, CO 80522 | Larimer County Courthouse, 200 West Oak Street, Suite 3000, Fort Collins, CO 80521 | Nov. 16, 2017 | 080101
Larimer (FEMA Docket No.: B-1748) | Unincorporated areas of Larimer County (17-08-0075P) | The Honorable Lew Gaiter III, Chairman, Larimer County Board of Commissioners, P.O. Box 1190, Fort Collins, CO 80522 | Larimer County Courthouse, 200 West Oak Street, Suite 3000, Fort Collins, CO 80521 | Nov. 24, 2017 |
Florida:
Broward (FEMA Docket No.: B-1748) | City of Plantation (17-04-1665P) | The Honorable Diane Veltri Bendekovic, Mayor, City of Plantation, 400 Northwest 73rd Avenue, Plantation, FL 33317 | Engineering Department, 401 Northwest 70th Terrace, Plantation, FL 33317 | Dec. 1, 2017 | 120054
Broward (FEMA Docket No.: B-1748) | Unincorporated areas of Broward County (17-04-1665P) | The Honorable Barbara Sharief, Mayor, Broward County Board of Commissioners, 115 South Andrews Avenue, Room 437C, Fort Lauderdale, FL 33301 | Broward County Environmental Engineering and Permitting Division, 1 North University Drive, Fort Lauderdale, FL 33324 | Dec. 1, 2017 | 125093
Collier (FEMA Docket No.: B-1740) | Unincorporated areas of Collier County (17-04-4803P) | The Honorable Penny Taylor, Chair, Collier County Board of Commissioners, 3299 Tamiami Trail East, Suite 303, Naples, FL 34112 | Collier County Engineering Services Section Growth Management Department, 3301 Tamiami Trail East Building F, 1st Floor, Naples, FL 34112 | Oct. 31, 2017 | 120067
Dixie (FEMA Docket No.: B-1748) | Town of Horseshoe Beach (17-04-5093P) | The Honorable Talmadge Bennett, Mayor, Town of Horseshoe Beach, P.O. Box 86, Horseshoe Beach, FL 32648 | Town Hall, 18 5th Avenue East, Horseshoe Beach, FL 32648 | Dec. 1, 2017 | 120329
Dixie (FEMA Docket No.: B-1748) | Unincorporated areas of Dixie County (17-04-5093P) | The Honorable Jason Holifield, Chairman, Dixie County Board of Commissioners, 214 Northeast Highway 351, Cross City, FL 32628 | Dixie County Building and Zoning Department, 405 Southeast 22nd Avenue, Cross City, FL 32628 | Dec. 1, 2017 | 120336
Duval (FEMA Docket No.: B-1748) | City of Jacksonville (17-04-4095P) | The Honorable Lenny Curry, Mayor, City of Jacksonville, 117 West Duval Street, Suite 400, Jacksonville, FL 32202 | Development Services Division, 214 North Hogan Street, Suite 2100, Jacksonville, FL 32202 | Nov. 21, 2017 | 120077
Escambia (FEMA Docket No.: B-1748) | Unincorporated areas of Escambia County (17-04-5219P) | The Honorable Doug Underhill, Chairman, Escambia County Board of Commissioners, 221 Palafox Place, Suite 400, Pensacola, FL 32502 | Escambia County Planning and Zoning Department, 3363 West Park Place, Pensacola, FL 32505 | Dec. 1, 2017 | 120080
Flagler (FEMA Docket No.: B-1740) | City of Palm Coast (17-04-2665P) | The Honorable Melissa Holland, Mayor, City of Palm Coast, 160 Lake Avenue, Palm Coast, FL 32164 | City Hall, 160 Lake Avenue, Palm Coast, FL 32164 | Nov. 2, 2017 | 120684
Lee (FEMA Docket No.: B-1748) | City of Sanibel (17-04-4540P) | The Honorable Kevin Ruane, Mayor, City of Sanibel, 800 Dunlop Road, Sanibel, FL 33957 | Planning and Code Enforcement Department, 800 Dunlop Road, Sanibel, FL 33957 | Nov. 24, 2017 | 120402
Lee (FEMA Docket No.: B-1748) | Town of Fort Myers Beach (17-04-3444P) | The Honorable Dennis C. Boback, Mayor, Town of Fort Myers Beach, 2525 Estero Boulevard, Fort Myers Beach, FL 33931 | Community Development Department, 2525 Estero Boulevard, Fort Myers Beach, FL 33931 | Dec. 4, 2017 | 120673
Monroe (FEMA Docket No.: B-1748) | Village of Islamorada (17-04-4163P) | The Honorable Jim Mooney, Mayor, Village of Islamorada, 86800 Overseas Highway, Islamorada, FL 33036 | Planning and Development Department, 86800 Overseas Highway, Islamorada, FL 33036 | Dec. 1, 2017 | 120424
Georgia: Columbia (FEMA Docket No.: B-1748) | Unincorporated areas of Columbia County (17-04-2730P) | The Honorable Ron C. Cross, Chairman, Columbia County Board of Commissioners, P.O. Box 498, Evans, GA 30809 | Columbia County Engineering Services Division, 630 Ronald Reagan Drive, Building A, East Wing, Evans, GA 30809 | Nov. 2, 2017 | 130059
Maryland: Worcester (FEMA Docket No.: B-1740) | Town of Ocean City (17-03-0551P) | Mr. Douglas R. Miller, Manager, Town of Ocean City, 301 Baltimore Avenue, Ocean City, MD 21842 | Department of Planning and Community Development, 301 Baltimore Avenue, Ocean City, MD 21842 | Nov. 3, 2017 | 245207
Mississippi:
Lamar (FEMA Docket No.: B-1748) | Unincorporated areas of Lamar County (17-04-3862P) | The Honorable Joe Bounds, President, Lamar County Board of Supervisors, P.O. Box 1240, Purvis, MS 39475 | Lamar County Planning Department, 144 Shelby Speights Drive, Purvis, MS 39475 | Nov. 10, 2017 | 280304
Panola (FEMA Docket No.: B-1748) | City of Batesville (17-04-0231P) | The Honorable Jerry Autrey, Mayor, City of Batesville, P.O. Box 689, Batesville, MS 38606 | City Hall, 103 College Street, Batesville, MS 38606 | Nov. 6, 2017 | 280126
Panola (FEMA Docket No.: B-1748) | Unincorporated areas of Panola County (17-04-0231P) | The Honorable Cole Flint, President, Panola County Board of Supervisors, 151 Public Square, Batesville, MS 38606 | Panola County Building Department, 245 Eureka Street, Batesville, MS 38606 | Nov. 6, 2017 | 280125
Montana: Gallatin (FEMA Docket No.: B-1748) | Unincorporated areas of Gallatin County (17-08-0448P) | The Honorable Don Seifert, Chairman, Gallatin County Board of Commissioners, 311 West Main Street, Room 306, Bozeman, MT 59715 | Gallatin County Planning Department, 311 West Main Street, Room 108, Bozeman, MT 59715 | Dec. 1, 2017 | 300027
New Hampshire: Rockingham (FEMA Docket No.: B-1748) | Town of Plaistow (16-01-2739P) | The Honorable Mark Pearson, Manager, Town of Plaistow, 145 Main Street, Plaistow, NH 03865 | Planning Department, 145 Main Street, Plaistow, NH 03865 | Nov. 29, 2017 | 330138
New Mexico: Bernalillo (FEMA Docket No.: B-1748) | Unincorporated areas of Bernalillo County (17-06-0728P) | The Honorable Debbie O'Malley, Chair, Bernalillo County Board of Commissioners, 1 Civic Plaza Northwest, Albuquerque, NM 87102 | Bernalillo County Public Works Division, 2400 Broadway Boulevard Southeast, Albuquerque, NM 87102 | Nov. 30, 2017 | 350001
South Carolina:
Berkeley (FEMA Docket No.: B-1748) | Unincorporated areas of Berkeley County (17-04-1961P) | The Honorable William W. Peagler, III, Chairman, Berkeley County Council, P.O. Box 6122, Moncks Corner, SC 29461 | Berkeley County Planning and Zoning Department, 1003 Highway 52, Moncks Corner, SC 29461 | Nov. 24, 2017 | 450029
Charleston (FEMA Docket No.: B-1748) | Town of Mount Pleasant (17-04-2666P) | The Honorable Linda Page, Mayor, Town of Mount Pleasant, 100 Ann Edwards Lane, Mount Pleasant, SC 29464 | Planning and Development Department, 100 Ann Edwards Lane, Mount Pleasant, SC 29464 | Nov. 20, 2017 | 455417
Charleston (FEMA Docket No.: B-1748) | Unincorporated areas of Charleston County (17-04-2666P) | The Honorable J. Elliott Summey, Chairman, Charleston County Council, 4045 Bridgeview Drive, Suite B254, North Charleston, SC 29405 | Charleston County Building Inspection Services Department, 4045 Bridgeview Drive, North Charleston, SC 29405 | Nov. 20, 2017 | 455413
South Dakota:
Grant (FEMA Docket No.: B-1748) | City of Milbank (16-08-1274P) | The Honorable Pat Raffety, Mayor, City of Milbank, 1001 East 4th Avenue Suite 301, Milbank, SD 57252 | City Hall, 1001 East 4th Avenue, Milbank, SD 57252 | Nov. 16, 2017 | 460200
Grant (FEMA Docket No.: B-1748) | Unincorporated areas of Grant County (16-08-1274P) | The Honorable Michael J. Mach, Chairman, Grant County, Board of Commissioners, 1001 South 2nd Street, Milbank, SD 57252 | Grant County Courthouse, 210 East 5th Avenue, Milbank, SD 57252 | Nov. 16, 2017 | 460266
Texas:
Bandera (FEMA Docket No.: B-1748) | Unincorporated areas of Bandera County (17-06-0498P) | The Honorable Richard Evans, Bandera County Judge, P.O. Box 877, Bandera, TX 78003 | Bandera County Engineering Department, 502 11th Street, Bandera, TX 78003 | Nov. 9, 2017 | 480020
Bexar (FEMA Docket No.: B-1748) | City of San Antonio (16-06-3842P) | The Honorable Ron Nirenberg, Mayor, City of San Antonio, P.O. Box 839966, San Antonio, TX 78283 | Transportation and Capital Improvements Department, Storm Water Division, 1901 South Alamo Street, 2nd Floor, San Antonio, TX 78204 | Nov. 22, 2017 | 480045
Bexar (FEMA Docket No.: B-1748) | City of San Antonio (17-06-0569P) | The Honorable Ron Nirenberg, Mayor, City of San Antonio, P.O. Box 839966, San Antonio, TX 78283 | Transportation and Capital Improvements Department, Stormwater Division, 1901 South Alamo Street, 2nd Floor, San Antonio, TX 78204 | Nov. 22, 2017 | 480045
Bexar (FEMA Docket No.: B-1748) | Unincorporated areas of Bexar County (17-06-2326P) | The Honorable Nelson W. Wolff, Bexar County Judge, 101 West Nueva Street, 10th Floor, San Antonio, TX 78205 | Bexar County Public Works Department, 233 North Pecos-La Trinidad Street, Suite 420, San Antonio, TX 78204 | Nov. 27, 2017 | 480035
Brazos (FEMA Docket No.: B-1740) | Unincorporated areas of Brazos County (17-06-1259P) | The Honorable Duane Peters, Brazos County Judge, 200 South Texas Avenue, Suite 332, Bryan, TX 77803 | Brazos County Road and Bridge Department, Highway 21 West, Bryan, TX 77803 | Nov. 7, 2017 | 481195
Collin (FEMA Docket No.: B-1748) | Unincorporated areas of Collin County (17-06-0646P) | The Honorable Keith Self, Collin County Judge, 2300 Bloomdale Road, Suite 4192, McKinney, TX 75071 | Collin County Engineering Department, 4690 Community Avenue, Suite 200, McKinney, TX 75071 | Nov. 20, 2017 | 480130
El Paso (FEMA Docket No.: B-1740) | City of El Paso (17-06-1734P) | The Honorable Oscar Leeser, Mayor, City of El Paso, 300 North Campbell Street, El Paso, TX 79901 | City Hall, 801 Texas Avenue, El Paso, TX 79901 | Oct. 31, 2017 | 480214
Fort Bend (FEMA Docket No.: B-1748) | Unincorporated areas of Fort Bend County (17-06-0120P) | The Honorable Robert Hebert, Fort Bend County Judge, 401 Jackson Street, Richmond, TX 77469 | Fort Bend County Engineering Department, 401 Jackson Street, Richmond, TX 77469 | Nov. 24, 2017 | 480228
Harris (FEMA Docket No.: B-1733) | Unincorporated areas of Harris County (16-06-3930P) | The Honorable Edward M. Emmett, Harris County Judge, 1001 Preston Street, Suite 911, Houston, TX 77002 | Harris County Permit Office, 10555 Northwest Freeway, Suite 120, Houston, TX 77092 | Sep. 25, 2017 | 480287
Harris (FEMA Docket No.: B-1735) | Unincorporated areas of Harris County (16-06-4008P) | The Honorable Edward M. Emmett, Harris County Judge, 1001 Preston Street, Suite 911, Houston, TX 77002 | Harris County Permit Office, 10555 Northwest Freeway, Suite 120, Houston, TX 77092 | Oct. 16, 2017 | 480287
Kendall (FEMA Docket No.: B-1748) | Unincorporated areas of Kendall County (17-06-0696P) | The Honorable Darrel L. Lux, Kendall County Judge, 201 East San Antonio Avenue, Suite 122, Boerne, TX 78006 | Kendall County Development and Floodplain Management Department, 201 East San Antonio Avenue, Suite 101, Boerne, TX 78006 | Nov. 13, 2017 | 480417
Montgomery (FEMA Docket No.: B-1748) | Unincorporated areas of Montgomery County (17-06-0033P) | The Honorable Craig B. Doyal, Montgomery County Judge, 501 North Thompson, Suite 401, Conroe, TX 77301 | Montgomery County Engineering Department, 501 North Thompson, Suite 103, Conroe, TX 77301 | Nov. 10, 2017 | 480483
Tarrant (FEMA Docket No.: B-1748) | City of Fort Worth (17-06-0459P) | The Honorable Betsy Price, Mayor, City of Fort Worth, 200 Texas Street, Fort Worth, TX 76102 | Transportation and Public Works Department, 200 Texas Street, Fort Worth, TX 76102 | Nov. 17, 2017 | 480596
Tarrant (FEMA Docket No.: B-1748) | City of Fort Worth (17-06-0497P) | The Honorable Betsy Price, Mayor, City of Fort Worth, 200 Texas Street, Fort Worth, TX 76102 | Transportation and Public Works Department, 200 Texas Street, Fort Worth, TX 76102 | Dec. 1, 2017 | 480596
Tarrant (FEMA Docket No.: B-1748) | City of Fort Worth (17-06-0575P) | The Honorable Betsy Price, Mayor, City of Fort, Worth, 200 Texas Street, Fort Worth, TX 76102 | Transportation and Public Works Department, 200 Texas Street, Fort Worth, TX 76102 | Nov. 10, 2017 | 480596
Utah:
Davis (FEMA Docket No.: B-1748) | City of Farmington (17-08-0203P) | The Honorable Jim Talbot, Mayor, City of Farmington, 160 South Main Street, Farmington, UT 84025 | City Hall, 160 South Main Street, Farmington, UT 84025 | Nov. 24, 2017 | 490044
Washington (FEMA Docket No.: B-1748) | City of Hurricane (17-08-0479P) | The Honorable John W. Bramall, Mayor, City of Hurricane, 147 North 870 West, Hurricane, UT 84737 | Planning and Zoning Department, 147 North 870 West, Hurricane, UT 84737 | Nov. 30, 2017 | 490172

[FR Doc. 2017-28181 Filed 12-28-17; 8:45 am]

BILLING CODE 9110-12-P